DEPARTMENT OF HOMELAND SECURITY

Federal Emergency Management Agency

[Docket ID FEMA-2020-0002; Internal Agency Docket No. FEMA-B-2062]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 27, 2021.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2062, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Gilpin County, Colorado and Incorporated Areas
Project: 19-08-0004S Preliminary Date: June 2, 2020
City of Black Hawk | Community Planning and Development, 211 Church Street, Black Hawk, CO 80422.
City of Central City | City Hall, 141 Nevada Street, Central City, CO 80427.
Unincorporated Areas of Gilpin County | Gilpin County Courthouse, 203 Eureka Street, 2nd Floor, Central City, CO 80427.
Franklin County, Florida and Incorporated Areas
Project: 12-04-0465S Preliminary Date: June 13, 2019
City of Apalachicola | Planning and Community Development Department, 192 Coach Wagoner Boulevard, Apalachicola, FL 32320.
City of Carrabelle | City Hall, 1206 Highway 98 East, Carrabelle, FL 32322.
Unincorporated Areas of Franklin County | Franklin County Emergency Management Department, 28 Airport Road, Apalachicola, FL 32320.
Bradley County, Tennessee and Incorporated Areas
Project: 18-04-0036S Preliminary Date: March 27, 2020
City of Cleveland | Development and Engineering Services Department, 185 2nd Street Northeast, Cleveland, TN 37311.
Unincorporated Areas of Bradley County | Bradley County Building, 155 Broad Street Northwest, Cleveland, TN 37311.
Hamilton County, Tennessee and Incorporated Areas
Project: 19-04-0011S Preliminary Date: March 27, 2020
City of Chattanooga | Zoning Office, 1250 Market Street, Suite 1000, Chattanooga, TN 37402.
City of Red Bank | City Hall, 3105 Dayton Boulevard, Red Bank, TN 37415.
City of Soddy-Daisy | City Hall, 9835 Dayton Pike, Soddy-Daisy, TN 37379.
Unincorporated Areas of Hamilton County | Hamilton County Engineering Department, 1250 Market Street, Suite 3046, Chattanooga, TN 37402.
Williamson County, Tennessee and Incorporated Areas
Project: 19-04-0010S Preliminary Date: March 27, 2020
City of Brentwood | City Hall, 5211 Maryland Way, Brentwood, TN 37027.
City of Franklin | City Hall, 109 3rd Avenue South, Suite 110, Franklin, TN 37064.
Unincorporated Areas of Williamson County | Williamson County Administration Complex, 1320 West Main Street, Suite 400, Franklin, TN 37064.
Victoria County, Texas and Incorporated Areas
Project: 15-06-0744S Preliminary Date: April 30, 2020
City of Victoria | 700 Main Center, Engineering Office, 702 North Main Street, Suite 107, Victoria, TX 77901.
Unincorporated Areas of Victoria County | Dr. Pattie Dodson Public Health Center, 2805 North Navarro Street, Suite 106, Victoria, TX 77901.

[FR Doc. 2020-23975 Filed 10-28-20; 8:45 am]

BILLING CODE 9110-12-P